DEPARTMENT OF JUSTICE

Bureau of Alcohol, Tobacco, Firearms and Explosives

[OMB Number 1140-0060]

Agency Information Collection Activities: Proposed Collection; Comments Requested: Firearms Disabilities for Nonimmigrant Aliens

Correction

In notice document 2012-1057 appearing on page 3006 in the issue of Friday, January 20, 2012 make the following correction:

In the first column, in the next to last paragraph, starting in the third line “[insert the date 30 days from the date this notice is published in the Federal Register]” should read “February 21, 2012”.

[FR Doc. C1-2012-1057 Filed 1-30-12; 8:45 am]

BILLING CODE 1505-01-P